FEDERAL FINANCIAL INSTITUTIONS EXAMINATION COUNCIL

[Docket No. AS20-03]

Appraisal Subcommittee; Notice of Adoption of Grants Handbook

AGENCY: Appraisal Subcommittee of the Federal Financial Institutions Examination Council.

ACTION: Notice of adoption of Grants Handbook.

SUMMARY: The Appraisal Subcommittee (ASC) of the Federal Financial Institutions Examination Council (FFIEC) is providing notice of its adoption of the Grants Handbook (Handbook). The Handbook is the official repository of the policies and procedures for the administration of grants made by the ASC as authorized by Title XI of the Financial Institutions Reform, Recovery, and Enforcement Act of 1989, as amended. The ASC adopted the Handbook in the open session ASC Special Meeting held December 12, 2019.

FOR FURTHER INFORMATION CONTACT: Mark Abbott, Grants Director, at mark@asc.gov, or Alice M. Ritter, General Counsel, at alice@asc.gov, ASC, 1325 G Street NW, Suite 500, Washington, DC 20005.

SUPPLEMENTARY INFORMATION: The ASC is authorized to grant funds to the Appraisal Foundation under Title XI, section 1109(b)(4). The ASC may “make grants in such amounts as it deems appropriate to the Appraisal Foundation, to help defray those costs of the foundation relating to the activities of its Appraisal Standards and Appraiser Qualifications Boards.” ¹ The ASC is also authorized to grant funds to State appraiser certifying and licensing agencies under Title XI section 1109(b)(5), which provides that the ASC may “make grants to State appraiser certifying and licensing agencies, in accordance with policies to be developed by the [ASC], to support the efforts of such agencies to comply with [Title XI] . . . .” ²

¹ Title XI § 1109(b)(4), 12 U.S.C. 3338(b)(4).

² Title XI § 1109(b)(5), 12 U.S.C. 3338(b)(5).

The Handbook as adopted by the ASC is available to the public and can be found at: https://www.asc.gov/Documents/GrantsFundingCorrespondence/ASC%20Grants%20Handbook.pdf on the ASC's website (asc.gov). The ASC is also adopting the Office of Management and Budget's uniform guidance located in 2 CFR part 200, commonly referred to as the “super circular.” This guidance consolidates existing federal regulations and includes discussion of awards processes, procurement rules, indirect costs, internal controls, time and effort documentation, and single audit procedures.

* * * * *

By the Appraisal Subcommittee.
Dated: February 11, 2020.
James R. Park,
Executive Director.

[FR Doc. 2020-03021 Filed 2-13-20; 8:45 am]

BILLING CODE 6700-01-P